DEPARTMENT OF LABOR

Employment and Training Administration

[TA-W-55,799]

CDI Professional Services Workers at General Dynamics Land Systems, California Technical Center, Goleta, CA; Notice of Negative Determination on Reconsideration

On December 30, 2004, the Department issued an Affirmative Determination Regarding Application for Reconsideration for the workers and former workers of the subject firm. The Department's Notice was published in the Federal Register on January 21, 2005 (70 FR 3226).

The petition for the workers of CDI Professional Services, workers at General Dynamics Land Systems, California Technical Center, Goleta, California was terminated because the petitioning workers were covered by an earlier denial (TA-W-55,658) and no new information or change in circumstances was evident to warrant a reversal of the previous determination.

The petitioner contends that the Department erred in its determination and alleges that the workers support Saudi Arabia National Guard (SANG) turret production which shifted from Goleta, California to London, Canada.

A company official was contacted for clarification in regard to the nature of the work performed by the subject worker group. The official stated that the subject workers were engaged in the engineering, designing and repair of SANG turrets. SANG turrets are produced in Australia and then sent to Canada to be attached to the appropriate vehicle. The official further clarified that work related to the SANG turrets shifted from Goleta, California to Woodbridge, Virginia in 2004.

Conclusion

After reconsideration, I affirm the original notice of negative determination of eligibility to apply for worker adjustment assistance for workers and former workers of CDI Professional Services working at General Dynamics Land Systems, California Technical Center, Goleta, California.

Signed at Washington, DC this 28th day of January 2005.
Elliott S. Kushner,
Certifying Officer, Division of Trade Adjustment Assistance.

[FR Doc. E5-456 Filed 2-4-05; 8:45 am]

BILLING CODE 4510-30-P